DEPARTMENT OF HEALTH AND HUMAN SERVICES

National Institutes of Health

Submission for OMB Review; 30-Day Comment Request; Conference, Meeting, Workshop, Registration and Challenges Generic Clearance (OD)

AGENCY: National Institutes of Health, HHS.

ACTION: Notice.

SUMMARY: In compliance with the requirement of the Paperwork Reduction Act of 1995 to provide opportunity for public comment on proposed data collection projects, the Office of Extramural Research (OER), in the Office of the Director (OD), the National Institutes of Health (NIH) will publish periodic summaries of proposed projects to be submitted to the Office of Management and Budget (OMB) for review and approval.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Mikia P. Currie, Chief, Project Clearance Branch (PCB), Office of Policy for Extramural Research Administration, 6705 Rockledge Drive, Suite 803-B, Bethesda, Maryland 20892 or call non-toll-free number (301) 435-0941 or Email your request, including your address to: curriem@mail.nih.gov.

SUPPLEMENTARY INFORMATION: This proposed information collection was previously published in the Federal Register on July 10, 2025, page 30651 (90 FR No.130) and allowed 60 days for public comment. No public comments were received. The purpose of this notice is to allow an additional 30 days for public comment.

The Office of Extramural Research (OER), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Conference, Meeting, Workshop, Registration and Challenges Generic Clearance (OD), 0925-0740, Extension, exp., date 09/30/2025. Office of Extramural Research (OER), National Institutes of Health (NIH).

Need and Use of Information Collection: The information collection encompassed by this generic clearance continues to allow NIH to select the most appropriate participants for non-grantee activities sponsored, organized, and run by NIH staff, according to the type and purpose of the activity. For example, NIH may develop an application process or information collection to select a limited number of researchers to participate in a poster session, identify speakers and panelists with desired expertise on a specific topic to be covered at a meeting, or determine which researchers would mostly likely benefit from a training course or other opportunity. For NIH to plan and conduct activities that are timely for participants in their field of research, it is often necessary for such information to be collected within a relatively short turnaround time. In general, submitted abstracts or other application materials will be reviewed by an internal NIH committee responsible for planning the activities. This committee will be responsible for selecting and notifying participants. The information collected for these activities generally include title, author(s), and institution/organization, poster size and character limitations along with other requirements. This information is necessary to identify attendees eligible, present research, speak on panels, and discuss innovative approaches to science and technology for poster presentations among their peers. The registration form collects information from interested parties to register them and obtain the necessary qualifications for conferences, meetings, workshops, poster sessions, presentations and panels.

OMB approval is requested for three years. There are no costs to respondents other than their time. The total estimated annualized burden hours are 10,375.

Estimated Annualized Burden Hours
Type of request/activity | Number of respondents | Number of responses per respondent | Average burden (in hours) per response | Total burden hours
Conferences/Meetings | 2,500 | 1 | 1 | 2,500
Training Courses | 2,500 | 1 | 45/60 | 1,875
Workshops | 2,500 | 1 | 30/60 | 1,250
Poster Session | 1,000 | 1 | 1 | 1,000
Panels | 1,500 | 1 | 30/60 | 750
Presentations | 1,500 | 1 | 1 | 1,500
Challenges and Competitions | 1,500 | 1 | 1 | 1,500
Total |  | 13,000 |  | 10,375

Dated: September 18, 2025.
Jon Lorsch,
Acting Deputy Director for Extramural Research, Office of Extramural Research, National Institutes of Health.

[FR Doc. 2025-18439 Filed 9-22-25; 8:45 am]

BILLING CODE 4140-01-P